DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-024. Applicant: The University of Michigan, Materials Science & Engineering Department, 3062 HH Dow Building, 2300 Hayward Street, Ann Arbor, MI 48109-2136. Instrument: Materials Preparation and Crystal Growth System, Model MCGS5. Manufacturer: Crystalox Limited, United Kingdom. Intended Use: The instrument is intended to be used to melt alloys of precious metals, including ruthenium and platinum, to study their tensile properties, creep properties, diffusion behavior and oxidation characteristics. The objective is to identify new materials that can increase the efficiency of high temperature systems such as aircraft engines and electric utility power generation turbines. Improved efficiency requires that these systems operate in increasingly higher temperatures. Application accepted by Commissioner of Customs: May 28, 2003.

Docket Number: 03-025. Applicant: The University of Texas Health Science Center at San Antonio, 7703 Floyd Curl Drive, San Antonio, TX 78229-7750. Instrument: Electron Microscope, Model JEM-1230. Manufacturer: JEOL Ltd., Japan. Intended Use: The instrument is intended to be used in the applicant's Department of Pathology for the following research projects:

1. Genetic Synthesis of Atherosclerosis

2. Mycoplasma pneumoniae-Airway interplay

3. Collaborative Program in BPD (bronchopulmonary dysplasia)

4. Molecular Biology of the Synapse

5. Single Molecular Analysis of Complex DNA Metabolism

6. Membrane Pathology in Renal Cell Injury

Application accepted by Commissioner of Customs: May 28, 2003.

Docket Number: 03-026. Applicant: University of Vermont, College of Medicine, Department of Molecular Physiology and Biophysics, HSRF—RM127, 149 Beaumont Avenue, Burlington, VT 05405. Instrument: Cuvette System for muscle fiber investigation. Manufacturer: Scientific Instruments, GmbH, Germany. Intended Use: The instrument is intended to be used to bathe a strip of dissected muscle. Muscle strips will be prepared from heart biopsies and measurements of force production used to characterize heart muscle performance in various heart diseases. Application accepted by Commissioner of Customs: May 29, 2003.

Docket Number: 03-027. Applicant: Oregon Health & Science University, Neurological Sciences Institute, 505 NW 185th Avenue, Beaverton, OR 97006. Instrument: Electron Microscope, Model Tecnai G² 12 BioTWIN. Manufacturer: FEI Company, The Netherlands. Intended Use: The instrument is intended to be used to examine the following:

1. The ultrastructural localization of several types of glutamate receptors relative to specific populations of primary afferents in the rat trigeminal dorsal horn, using antipeptide antisera that selectively recognize each receptor.

2. The localization of the MOR1 relative to other populations of afferents.

Application accepted by Commissioner of Customs: June 3, 2003.

Gerald A. Zerdy,
Program Manager, Statutory Import Programs Staff.

[FR Doc. 03-15525 Filed 6-18-03; 8:45 am]

BILLING CODE 3510-DS-P